DEPARTMENT OF ENERGY

Federal Energy Regulatory Commission

[Docket No. RP04-155-000 and RP03-398-000]

Northern Natural Gas Company; Notice of Informal Settlement Conference

March 18, 2004.

Take notice that an informal settlement conference will be convened in this proceeding commencing at 1 p.m. on Tuesday, March 23, 2004, and continuing if necessary at 9 a.m. on Wednesday, March 24, 2004, and possibly continuing further if necessary at 9 a.m. on Thursday, March 25, 2004 in a room to be announced later, at the Federal Energy Regulatory Commission, 888 First Street, NE., Washington, DC 20426, for the purpose of exploring the possible settlement of the above-referenced dockets.

Any party, as defined by 18 CFR 385.102(c), or any participant as defined by 18 CFR 385.102(b), is invited to attend. Persons wishing to become a party must move to intervene and receive intervenor status pursuant to the Commission's regulations (18 CFR 385.214).

For additional information, please contact Bill Collins (202) 502-8248 william.collins@ferc.gov, or Kevin Frank (202) 502-8065 kevin.frank@ferc.gov.

Magalie R. Salas,
Secretary.

[FR Doc. E4-661 Filed 3-24-04; 8:45 am]

BILLING CODE 6717-01-P